DEPARTMENT OF HOMELAND SECURITY

Coast Guard

33 CFR Part 117

[Docket No. USCG-2015-1066]

Drawbridge Operation Regulation; Hoquiam River, Hoquiam, WA

AGENCY: Coast Guard, DHS.

ACTION: Notice of temporary deviation from drawbridge regulation.

SUMMARY: The Coast Guard has issued a temporary deviation from the operating schedule that governs the Simpson Avenue Bridge across the Hoquiam River, mile 0.5, at Hoquiam, WA. The deviation is necessary to accommodate Washington State Department of Transportation's (WSDOT) extensive maintenance and restoration efforts on this bridge. This deviation allows WSDOT to open one leaf of the double leaf bascule bridge when at least two hours of notice is given. The vertical clearance will be reduced to approximately 25 feet at mean high tide, and the horizontal clearance will be reduced to 52 feet.

DATES: This deviation is effective from 6 a.m. on December 11, 2015 to 11:59 p.m. on December 31, 2015.

ADDRESSES: The docket for this deviation, [USCG-2015-1066] is available at http://www.regulations.gov. Type the docket number in the “SEARCH” box and click “SEARCH.” Click on Open Docket Folder on the line associated with this deviation.

FOR FURTHER INFORMATION CONTACT: If you have questions on this temporary deviation, call or email the Bridge Administrator, Coast Guard Thirteenth District; telephone 206-220-7282 email d13-pf-d13bridges@uscg.mil.

SUPPLEMENTARY INFORMATION: WSDOT has requested a temporary deviation from the operating schedule for the Simpson Avenue Bridge crossing the Hoquiam River, mile 0.5, at Hoquiam, WA. WSDOT requested to only open one leaf of the double leaf bascule bridge when at least two hours of notice is given. WSDOT also requested to reduce the vertical clearance from 35 feet to approximately 25 feet at mean high tide, and reduce the horizontal navigation clearance from 125 feet to 52 feet while operating single leaf.

The normal operating schedule for the Simpson Avenue Bridge operates in accordance with 33 CFR 117.1047, which states the bridge shall open on signal if at least one hour notice is given. Simpson Avenue Bridge is a double leaf bascule bridge and provides 35 feet of vertical clearance above mean high water elevation while in the closed-to-navigation position.

This deviation allows the Simpson Avenue Bridge at mile 0.5 crossing the Hoquiam River, to operate in single leaf, half of the span, to maritime traffic from 6 a.m. on December 11, 2015 to 11:59 p.m. on December 31, 2015. The bridge shall operate in accordance to 33 CFR 117.1047 at all other times.

Vessels able to pass through the bridge in the closed-to-navigation position may do so at anytime. Scaffolding will be erected below the bridge for personnel to work from reducing the vertical clearance to approximately 25 feet while the bridge is in the closed-to-navigation position. The bridge will not be able to open for vessels engaged in emergency response operations during this closure period without a two hour notice.

Waterway usage on this part of the Hoquiam River ranges from tug and barge to small pleasure craft. WSDOT has examined bridge opening logs, and contacted all waterway users that have requested bridge openings throughout the last year. The input WSDOT received from waterway users indicated that this deviation will have no impact on the known users. No immediate alternate route for vessels to pass is available on this part of the river. The Coast Guard will also inform the users of the waterways through our Local and Broadcast Notices to Mariners of the change in operating schedule for the bridge so that vessels can arrange their transits to minimize any impact caused by the temporary deviation.

In accordance with 33 CFR 117.35(e), the drawbridges must return to their regular operating schedule immediately at the end of the effective period of this temporary deviation. This deviation from the operating regulations is authorized under 33 CFR 117.35.

Dated: December 8, 2015.
Steven M. Fischer,
Bridge Administrator, Thirteenth Coast Guard District.

[FR Doc. 2015-31388 Filed 12-11-15; 8:45 am]

BILLING CODE 9110-04-P